DEPARTMENT OF ENERGY

Blue Ribbon Commission on America's Nuclear Future

AGENCY: Department of Energy, Office of Nuclear Energy.

ACTION: Notice of open meeting correction.

On March 9, 2010, the Department of Energy published a notice announcing an open meeting of the Blue Ribbon Commission on America's Nuclear Future (the Commission). In that notice, the starting time for the Thursday, March 25, 2010, meeting listed under DATES was indicated as 1 p.m. The starting time has been updated. The open meeting will now begin at 11 a.m. on Thursday, March 25, 2010, break at 12:30 p.m., and reconvene at 1:30 p.m.

Also, in that notice under PUBLIC PARTICIPATION it was indicated that individuals and representatives of organizations may offer comments at the end of the meeting on Friday, March 26, 2010. Those wishing to speak at the end of the meeting should register to do so beginning at 8 a.m. on Friday morning, March 26, 2010. The time allotted per speaker will depend on the number who wish to speak but will not exceed 5 minutes. Those unable to attend the meeting or do not have sufficient time to speak may send their written statement to Timothy A. Frazier, U.S. Department of Energy 1000 Independence Avenue, SW., Washington DC 20585, or e-mail CommissionDFO@nuclear.energy.gov.

Additionally, every effort is being made to live webcast the meeting. Additional information will be available regarding the webcast via the Department of Energy Web site at http://www.energy.gov.

Issued in Washington, DC on March 18, 2010.
Rachel Samuel,
Deputy Committee Management Officer.

[FR Doc. 2010-6364 Filed 3-22-10; 8:45 am]

BILLING CODE 6450-01-P